DEPARTMENT OF ENERGY

Federal Energy Regulatory Commission

Combined Notice of Filings #2

September 13, 2005.

Take notice that the Commission received the following electric rate filings:

Docket Numbers: ER05-1281-001.

Applicants: FPL Energy Duane Arnold, LLC.

Description: FPL Energy Duane Arnold LLC amends its application to remove the provisions in its FERC Electric, Original Volume No. 1 reflecting authority to make sales of ancillary services at market-based rates and correct typographical error.

Filed Date: 09/02/2005.

Accession Number: 20050909-0030.

Comment Date: 5 p.m. eastern time on Monday, September 19, 2005.

Docket Numbers: ER05-1343-001.

Applicants: ISO New England Inc.

Description: ISO New England, Inc submits for the quarter ending 6/30/05 its Revised Capital Projects Report.

Filed Date: 09/02/2005.

Accession Number: 20050909-0031.

Comment Date: 5 p.m. eastern time on Friday, September 23, 2005.

Docket Numbers: ER05-1379-001.

Applicants: American Electric Power Services Corporation.

Description: Appalachian Power Co submits an amendment to its 8/22/05 filing involving an Interconnection & Local Delivery Service Agreement with Old Dominion Electric Cooperative.

Filed Date: 09/02/2005.

Accession Number: 20050907-0055.

Comment Date: 5 p.m. eastern time on Friday, September 23, 2005.

Docket Numbers: ER05-1425-000.

Applicants: Puget Sound Energy, Inc.

Description: Puget Sound Energy, Inc requests that FERC disclaim jurisdiction over certain contracts with the Public Utility District 2 of Grant County, WA. September 8, 2005 errata to this filing included under accession No. 20050908-5049.

Filed Date: 09/02/2005.

Accession Number: 20050907-0061.

Comment Date: 5 p.m. eastern time on Friday, September 23, 2005.

Docket Numbers: ER05-1427-000.

Applicants: Portland General Electric Company.

Description: Portland General Electric Co requests that FERC disclaim jurisdiction over certain contracts with the Public Utility District 2 of Grant County, Washington.

Filed Date: 09/02/2005.

Accession Number: 20050907-0062.

Comment Date: 5 p.m. eastern time on Friday, September 23, 2005.

Docket Numbers: ER05-1428-000.

Applicants: Brookhaven Energy Limited Partnership.

Description: Brookhaven Energy Limited Partnership submits Notice of Cancellation of Market-based rate Authority under FERC Electric Tariff, Original Volume No.1, effective 9/30/2005.

Filed Date: 09/02/2005.

Accession Number: 20050907-0053.

Comment Date: 5 p.m. eastern time on Friday, September 23, 2005.

Docket Numbers: ER05-1429-000.

Applicants: Allegheny Energy Supply Wheatland Generating Facility, LLC.

Description: Allegheny Energy Supply Wheatland Generating Facility, LLC submits a Notice of Cancellation of FERC Electric Tariff, First Revised Volume 1, effective 9/3/05.

Filed Date: 09/02/2005.

Accession Number: 20050907-0052.

Comment Date: 5 p.m. eastern time on Friday, September 23, 2005.

Docket Numbers: ER05-1430-000.

Applicants: Valley Electric Association, Inc.

Description: Valley Electric Association, Inc advises that due to amendments to section 201(f) of the Federal Power Act, it is no longer a public utility, and submits notices of cancellation to withdraw its filed rate schedules, open access transmission tariff and service agreement.

Filed Date: 09/02/2005.

Accession Number: 20050907-0051.

Comment Date: 5 p.m. eastern time on Friday, September 23, 2005.

Docket Numbers: ER05-1431-000.

Applicants: Southern California Edison Company.

Description: Southern California Edison Co submits the Grand Crossing E Street Wholesale Distribution Load Interconnection Facilities Agreement with the City of Industry, CA.

Filed Date: 09/02/2005.

Accession Number: 20050907-0057.

Comment Date: 5 p.m. eastern time on Friday, September 23, 2005.

Docket Numbers: ER05-1432-000.

Applicants: Entergy Services, Inc.

Description: Entergy Services Inc on behalf of Entergy Operating Companies submits revisions to its Schedule 2 (Reactive Supply and Voltage Control Services from Generation Sources) contained in its OATT.

Filed Date: 09/02/2005.

Accession Number: 20050907-0059.

Comment Date: 5 p.m. eastern time on Friday, September 23, 2005.

Docket Numbers: ER05-1433-000.

Applicants: New York Independent System Operator, Inc.

Description: New York Independent System Operator submits revisions to its Open Access Transmission Tariff and its Market Administration and Control Area Services Tariff.

Filed Date: 09/02/2005.

Accession Number: 20050907-0058.

Comment Date: 5 p.m. eastern time on Friday, September 23, 2005.

Docket Numbers: ER05-1439-000.

Applicants: Allegheny Energy Supply Company, LLC.

Description: Allegheny Energy Supply Co, LLC submits a petition requesting authorization to make wholesale power sales to its affilitate, West Penn Power Co dba Allegheny Power.

Filed Date: 09/02/2005.

Accession Number: 20050908-0150.

Comment Date: 5 p.m. eastern time on Friday, September 23, 2005.

Docket Numbers: ER05-1440-000.

Applicants: MidAmerican Energy Company.

Description: MidAmerican Energy Co submits a Notice of Cancellation of Full Requirements Power Agreement dated 11/15/87 with the City of Pocahontas, Iowa.

Filed Date: 09/02/2005.

Accession Number: 20050908-0116.

Comment Date: 5 p.m. eastern time on Friday, September 23, 2005.

Docket Numbers: ER05-1441-000.

Applicants: Great Plains Power Incorporated.

Description: Great Plains Power, Incorporated submits a notice of withdrawal of market-based rate authorization.

Filed Date: 09/02/2005.

Accession Number: 20050908-0115.

Comment Date: 5 p.m. eastern time on Friday, September 23, 2005.

Any person desiring to intervene or to protest in any of the above proceedings must file in accordance with Rules 211 and 214 of the Commission's Rules of Practice and Procedure (18 CFR 385.211 and § 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-5092 Filed 9-15-05; 8:45 am]

BILLING CODE 6717-01-P